DEPARTMENT OF THE TREASURY

Office of Foreign Assets Control

Notice of OFAC Sanctions Actions

AGENCY: Office of Foreign Assets Control, Treasury.

ACTION: Notice.

SUMMARY: The U.S. Department of the Treasury's Office of Foreign Assets Control (OFAC) is publishing the names of one or more persons that have been placed on OFAC's Specially Designated Nationals and Blocked Persons List (SDN List) based on OFAC's determination that one or more applicable legal criteria were satisfied. All property and interests in property subject to U.S. jurisdiction of these persons are blocked, and U.S. persons are generally prohibited from engaging in transactions with them.

DATES: See Supplementary Information section for applicable date(s).

FOR FURTHER INFORMATION CONTACT: OFAC: Andrea Gacki, Director, tel.: 202-622-2490; Associate Director for Global Targeting, tel.: 202-622-2420; Assistant Director for Licensing, tel.: 202-622-2480; Assistant Director for Regulatory Affairs, tel.: 202-622-4855; or Assistant Director for Sanctions Compliance & Evaluation, tel.: 202-622-2490.

SUPPLEMENTARY INFORMATION:

Electronic Availability

The SDN List and additional information concerning OFAC sanctions programs are available on OFAC's website (https://www.treasury.gov/ofac).

Notice of OFAC Actions

On March 25, 2022, OFAC determined that the property and interests in property subject to U.S. jurisdiction of the following persons are blocked under the relevant sanctions authority listed below.

Individuals

1. HEIN, Zaw, Burma; DOB 01 Jan 1974 to 31 Dec 1975; citizen Burma; Gender Male (individual) [BURMA-EO14014].

Designated pursuant to section 1(a)(iii)(A) of Executive Order 14014 of February 10, 2021, “Blocking Property With Respect to The Situation In Burma” (“E.O. 14014”), 86 FR 9429, for being a foreign person who is or has been a leader or official of the military or security forces of Burma, or any successor entity to any of the foregoing.

2. OO, Ko Ko, Zayyarthiri, Nay Pyi Taw, Burma; DOB 02 Dec 1972; POB Bhamaw, Burma; nationality Burma; Gender Male; Passport OM039639 (Burma) issued 13 Nov 2015 expires 12 Nov 2020 (individual) [BURMA-EO14014].

Designated pursuant to section 1(a)(iii)(A) of E.O. 14014, for being a foreign person who is or has been a leader or official of the military or security forces of Burma, or any successor entity to any of the foregoing.

3. AUNG, Naing Htut, Burma; DOB 27 Jan 1968; nationality Burma; Gender Male (individual) [BURMA-EO14014].

Designated pursuant to section 1(a)(i) of E.O. 14014 for operating in the defense sector of the Burmese economy or any other sector of the Burmese economy as may be determined by the Secretary of the Treasury, in consultation with the Secretary of State.

4. AUNG, Sit Taing (a.k.a. ASUNG, Sit Thaing; a.k.a. AUNG, Sitt Thaing), Burma; DOB 13 Nov 1971; nationality Burma; citizen Burma; Gender Male (individual) [BURMA-EO14014].

Designated pursuant to section 1(a)(i) of E.O. 14014 for operating in the defense sector of the Burmese economy or any other sector of the Burmese economy as may be determined by the Secretary of the Treasury, in consultation with the Secretary of State.

5. OO, Aung Hlaing, Burma; DOB 11 Jun 1977; nationality Burma; Gender Male (individual) [BURMA-EO14014].

Designated pursuant to section 1(a)(i) of E.O. 14014 for operating in the defense sector of the Burmese economy or any other sector of the Burmese economy as may be determined by the Secretary of the Treasury, in consultation with the Secretary of State.

Entities

1. 66TH LIGHT INFANTRY DIVISION (a.k.a. LIGHT INFANTRY DIVISION 66; a.k.a. “66 LID”; a.k.a. “#66 DIVISION”; a.k.a. “DIV. 66”; a.k.a. “LID 66”), Pyay Township, Bago Region, Burma; Target Type Government Entity [BURMA-EO14014].

Designated pursuant to section 1(a)(ii)(D) of E.O. 14014 for being responsible for or complicit in, or having directly or indirectly engaged or attempted to engage in, the arbitrary detention or torture of any person in Burma or other serious human rights abuse in Burma.

2. INTERNATIONAL GATEWAYS GROUP OF COMPANY LIMITED, Pyay Road No. 3X, Highland Avenue 6 Ward, 7 Mile, Mayangone Township, Yangon Region, Burma; Organization Type: Activities of holding companies; Target Type Private Company; Registration Number 182733636 (Burma) issued 29 Jun 2011 [BURMA-EO14014] (Linked To: AUNG, Naing Htut).

Designated pursuant to section 1(a)(vii) of E.O. 14014 for being owned or controlled by, or to have acted or purported to act for or on behalf of, directly or indirectly, the military or security forces of Burma or any person whose property and interests in property are blocked pursuant to this order.

3. MYANMAR CHEMICAL AND MACHINERY COMPANY LIMITED (a.k.a. MCM GROUP), No. 566/KA, Yazahtarni Road, Paung Laung 2 Quarter, Pyinmana Township, Naypyitaw, Burma; NO.2, 7 Mile Hill, MG Weik Housing, Mayangone Township, Yangon Region, Burma; Organization Type: Wholesale of other machinery and equipment; Target Type Private Company; Registration Number 100220040 (Burma) issued 10 Feb 2001 [BURMA-EO14014] (Linked To: OO, Aung Hlaing).

Designated pursuant to section 1(a)(vii) of E.O. 14014 for being owned or controlled by, or to have acted or purported to act for or on behalf of, directly or indirectly, the military or security forces of Burma or any person whose property and interests in property are blocked pursuant to this order.

4. HTOO GROUP OF COMPANIES (a.k.a. HTOO GROUP; a.k.a. “HCG”), No. 5, Pyay Road, Hlaing Township, Yangon, Burma; Organization Type: Activities of holding companies; Target Type Private Company [BURMA-EO14014] (Linked To: ZA, Tay).

Designated pursuant to section 1(a)(vii) of E.O. 14014 for being owned or controlled by, or to have acted or purported to act for or on behalf of, directly or indirectly, TAY ZA, a person whose property and interests in property are blocked pursuant to this order.

5. ASIA GREEN DEVELOPMENT BANK LTD (a.k.a. AGD BANK; a.k.a. ASIA GREEN DEVELOPMENT BANK LIMITED; a.k.a. ASIA GREEN DEVELOPMENT BANK PUBLIC COMPANY LIMITED), No. 73/75, Sule Pagoda Road, Pebadan Township, Yangon, Burma; SWIFT/BIC AGDBMMMY; website http://www.agdbank.com; Organization Type: Other financial service activities, except insurance and pension funding activities, n.e.c.; National ID No. 103903351 (Burma) [BURMA-EO14014].

Designated pursuant to section 1(a)(vii) of E.O. 14014 for being owned or controlled by, or to have acted or purported to act for or on behalf of, directly or indirectly, HTOO GROUP OF COMPANIES, a person whose property and interests in property are blocked pursuant to this order.

Authority: E.O. 14014, 86 FR 9429

Dated: March 25, 2022.
Andrea M. Gacki,
Director, Office of Foreign Assets Control, U.S. Department of the Treasury.

[FR Doc. 2022-06685 Filed 3-29-22; 8:45 am]

BILLING CODE 4810-AL-P